NUCLEAR REGULATORY COMMISSION

[NRC-2013-0095]

Design Limits and Loading Combinations for Metal Primary Reactor Containment System Components

AGENCY: Nuclear Regulatory Commission.

ACTION: Regulatory guide; issuance.

SUMMARY: The U.S. Nuclear Regulatory Commission (NRC) is issuing Revision 2 to Regulatory Guide (RG) 1.57, “Design Limits and Loading Combinations for Metal Primary Reactor Containment System Components,” in which there are no substantive changes to the RG. The revision includes correction of a subsection title and editorial changes to improve clarity. This guide describes a method that the NRC staff considers acceptable for design limits and loading combinations for metal primary reactor containment system components.

ADDRESSES: Please refer to Docket ID NRC-2013-0095 when contacting the NRC about the availability of information regarding this document. You may access information related to this document, which the NRC possesses and is publicly available, using any of the following methods:

• Federal Rulemaking Web site: Go to http://www.regulations.gov and search for Docket ID NRC-2013-0095. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Revision 2 of Regulatory Guide 1.57 is available in ADAMS under Accession No. ML 12325A043.

• NRC's PDR: You may examine and purchase copies of public documents at the NRC's Public Document Room O1-F21, One White Flint North, 11555 Rockville Pike, Rockville, Maryland 20852.

Regulatory guides are not copyrighted, and NRC approval is not required to reproduce them.

FOR FURTHER INFORMATION CONTACT: Richard Rivera-Lugo, telephone: 301-251-7652, email: Richard.Rivera-Lugo@nrc.gov; or Edward O'Donnell, telephone: 301-251-7455, email: Edward.Odonnell@nrc.gov. Both of the Office of Nuclear Regulatory Research, U.S. Nuclear Regulatory Commission, Washington, DC 20555-0001.

SUPPLEMENTARY INFORMATION:

I. Background

The NRC is issuing a revision to an existing guide in the NRC's “Regulatory Guide” series. Regulatory guides were developed to describe and make available to the public information methods that are acceptable to the NRC staff for implementing specific parts of the agency's regulations, techniques that the staff uses in evaluating specific problems or postulated accidents, and data that the staff needs in its review of applications for permits and licenses. The NRC typically seeks public comment on a draft version of a regulatory guide by announcing its availability for comment in the Federal Register. However, as explained on page 7 of NRC Management Directive 6.6 “Regulatory Guides,” (ADAMS Accession No. ML110330475) the NRC may directly issue a final regulatory guide without a draft version or public comment period if the changes to the regulatory guide are non-substantive.

The NRC is issuing Revision 2 of RG 1.57 (ADAMS Accession No. ML12325A043) directly as a final regulatory guide because the changes between Revision 1 and Revision 2 are non-substantive. The revision was to correct an error in a subsection title on page ten of Revision 1, which referred to the ultimate capacity of concrete containment structures when it should be steel containments, since metal primary reactor containment systems are the focus of this regulatory guide. In addition, Revision 1 specifically referred to Section 3.8.2, “Steel Containment” of NRC's Standard Review Plan for the Review of Safety Analysis Reports for Nuclear Power Plants, NUREG-0800) (ADAMS Accession No. ML100630179) without further elaboration on the application of the guidance. This was corrected by importing the guidance found in NUREG-0800, Section 3, 8.2 into Revision 2 of RG 1.57. This did not change the staff's regulatory guidance. In addition, editorial changes were made to improve clarity and ADAMS Accession Numbers were added in the reference section to facilitate public access to the documents.

II. Backfitting and Issue Finality

Issuance of this final regulatory guide does not constitute backfitting as defined in 10 CFR 50.109 (the Backfit Rule) and is not otherwise inconsistent with the issue finality provisions in 10 CFR part 52. The changes in Revision 2 of RG 1.57 are limited to editorial changes to improve clarity and the correction of a title. These changes do not fall within the kinds of agency actions that constitute backfitting or are subject to limitations in the issue finality provisions of part 52. Accordingly, the NRC did not address the Backfit Rule or issue finality provisions of part 52.

III. Congressional Review Act

This regulatory guide is a rule as designated in the Congressional Review Act (5 U.S.C. 801-808). However, the Office of Management and Budget has not found it to be a major rule as designated in the Congressional Review Act.

IV. Submitting Suggestions for Improvement of Regulatory Guides

Revision 2 of RG 1.57 is being issued without public comment. However, you may at any time submit suggestions to the NRC for improvement of existing regulatory guides or for the development of new regulatory guides to address new issues. Suggestions can be submitted by the form available online at http://www.nrc.gov/reading-rm/doc-collections/reg-guides/contactus.html. Suggestions will be considered in future updates and enhancements of the regulatory guide.

Dated at Rockville, Maryland, this 8th day of May, 2013.
For the Nuclear Regulatory Commission.
Thomas H. Boyce,
Chief, Regulatory Guide Development Branch, Division of Engineering, Office of Nuclear Regulatory Research.

[FR Doc. 2013-11710 Filed 5-15-13; 8:45 am]

BILLING CODE 7590-01-P